DEPARTMENT OF JUSTICE

United States v. Charles T. Cannada; Notice of Lodging Proposed Consent Decree

In accordance with Departmental Policy, 28 CFR 50.7, notice is hereby given that a proposed consent decree in United States v. Charles T. Cannada, Civil Action No. 5:99-cv-270Br S (S.D. Miss.), was lodged with the United States District Court for the Southern District of Mississippi on June 20, 2001. This proposed Consent Decree concerns a complaint filed by the United States against Charles T. Cannada, pursuant to sections 301(a) and 404 of the Clean Water Act, 33 U.S.C. 1311(a) and 1344, and imposes civil penalties against Defendant Charles T. Cannada, for the unauthorized discharge of dredged or fill material into waters of the United States located in wetlands on property known as Cypress Lake, in Warren County, Mississippi.

The proposed Consent Decree requires the payment of civil penalties in the amount of $50,000.

The Department of Justice will accept written comments relating to this proposed Consent Decree for thirty (30) days from the date of publication of this notice. Please address comments to David N. Usry, Assistant United States Attorney, United States Attorney's Office, 188 E. Capitol Street, Suite 500, Jackson, Mississippi 39211 and refer to United States v. Charles T. Cannada, DJ # 90-5-1-1-05799.

The proposed Consent Decree may be examined at the Clerk's Office, United States District Court for the Southern District of Mississippi, 245 East Capitol Street, Suite 316, Jackson, MS 39201.

David N. Usry,
Assistant United States Attorney, United States Attorney's Office, Jackson, Mississippi.

[FR Doc. 01-16770 Filed 7-3-01; 8:45 am]

BILLING CODE 4410-15-M